SECURITIES AND EXCHANGE COMMISSION

Submission for OMB Review; Comment Request

Upon Written Request, Copies Available From: Securities and Exchange Commission, Office of Filings and Information Services, Washington, DC 20549.

Extension:

Form 10-SB; OMB Control No. 3235-0419; SEC File No. 270-367.

Notice is hereby given that pursuant to the Paperwork Reduction Act of 1995 (44 U.S.C. 3501 et seq.) the Securities and Exchange Commission (“Commission”) has submitted to the Office of Management and Budget a request for extension of the previously approved collection of information discussed below.

Form 10-SB is used to register classes of securities of small business issuers pursuant to Section 12 of the Securities Exchange Act of 1934 to provide material information necessary for informed investment decisions. Every issuer subject to Section 13(a) and 15(d) under the Exchange Act must file a periodic report with the Commission containing information about its business and financial condition. The information provided on Form 10-SB is mandatory and is available to the public upon request. We estimate that Form 10-SB takes approximately 133 hours per response and is filed by 254 respondents. It is estimated that 25% of the 33,782 annual burden hours (8,446 burden hours) would be prepared by the company.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Office of Information Technology, Securities and Exchange Commission, 100 F Street, NE., Washington, DC 20549. Comments must be submitted to OMB within 30 days of this notice.

Dated: December 12, 2005.
Jonathan G. Katz,
Secretary.

[FR Doc. E5-7526 Filed 12-19-05; 8:45 am]

BILLING CODE 8010-01-P